ENVIRONMENTAL PROTECTION AGENCY

[EPA-HQ-OPPT-2008-0127; FRL-8353-6]

Certain New Chemicals; Receipt and Status Information

AGENCY: Environmental Protection Agency (EPA).

ACTION: Notice.

SUMMARY: Section 5 of the Toxic Substances Control Act (TSCA) requires any person who intends to manufacture (defined by statute to include import) a new chemical (i.e., a chemical not on the TSCA Inventory) to notify EPA and comply with the statutory provisions pertaining to the manufacture of new chemicals. Under sections 5(d)(2) and 5(d)(3) of TSCA, EPA is required to publish a notice of receipt of a premanufacture notice (PMN) or an application for a test marketing exemption (TME), and to publish periodic status reports on the chemicals under review and the receipt of notices of commencement to manufacture those chemicals. This status report, which covers the period from January 1, 2008 through January 31, 2008, consists of the PMNs and TMEs, both pending or expired, and the notices of commencement to manufacture a new chemical that the Agency has received under TSCA section 5 during this time period.

DATES: Comments identified by the specific PMN number or TME number, must be received on or before April 3, 2008.

ADDRESSES: Submit your comments, identified by docket identification (ID) number EPA-HQ-OPPT-2008-0127, by one of the following methods:

• Federal eRulemaking Portal: http://www.regulations.gov. Follow the on-line instructions for submitting comments.

• Mail: Document Control Office (7407M), Office of Pollution Prevention and Toxics (OPPT), Environmental Protection Agency, 1200 Pennsylvania Ave., NW., Washington, DC 20460-0001.

• Hand Delivery: OPPT Document Control Office (DCO), EPA East Bldg., Rm. 6428, 1201 Constitution Ave., NW., Washington, DC. Attention: Docket ID Number EPA-HQ-OPPT-2007-1193. The DCO is open from 8 a.m. to 4 p.m., Monday through Friday, excluding legal holidays. The telephone number for the DCO is (202) 564-8930. Such deliveries are only accepted during the DCO's normal hours of operation, and special arrangements should be made for deliveries of boxed information.

Instructions: Direct your comments to docket ID number EPA-HQ-OPPT-2008-0127. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket, visit the EPA Docket Center homepage at http://www.epa.gov/epahome/dockets.htm.

Docket: All documents in the docket are listed in the docket index available in regulations.gov. To access the electronic docket, go to http://www.regulations.gov, select “Advanced Search,” then “Docket Search.” Insert the docket ID number where indicated and select the “Submit” button. Follow the instructions on the regulations.gov website to view the docket index or access available documents. Although listed in the index, some information is not publicly available, e.g., CBI or other information whose disclosure is restricted by statute. Certain other material, such as copyrighted material, will be publicly available only in hard copy. Publicly available docket materials are available electronically at http://www.regulations.gov, or, if only available in hard copy, at the OPPT Docket. The OPPT Docket is located in the EPA Docket Center (EPA/DC) at Rm. 3334, EPA West Bldg., 1301 Constitution Ave., NW., Washington, DC. The EPA/DC Public Reading Room hours of operation are 8:30 a.m. to 4:30 p.m., Monday through Friday, excluding Federal holidays. The telephone number of the EPA/DC Public Reading Room is (202) 566-1744, and the telephone number for the OPPT Docket is (202) 566-0280. Docket visitors are required to show photographic identification, pass through a metal detector, and sign the EPA visitor log. All visitor bags are processed through an X-ray machine and subject to search. Visitors will be provided an EPA/DC badge that must be visible at all times in the building and returned upon departure.

FOR FURTHER INFORMATION CONTACT: Colby Lintner, Regulatory Coordinator, Environmental Assistance Division, Office of Pollution Prevention and Toxics (7408M), Environmental Protection Agency, 1200 Pennsylvania Ave., NW., Washington, DC 20460-0001; telephone number: (202) 554-1404; e-mail address: TSCA-Hotline@epa.gov.

SUPPLEMENTARY INFORMATION:

I. General Information

A. Does this Action Apply to Me?

This action is directed to the public in general. As such, the Agency has not attempted to describe the specific entities that this action may apply to. Although others may be affected, this action applies directly to the submitter of the premanufacture notices addressed in the action. If you have any questions regarding the applicability of this action to a particular entity, consult the person listed under FOR FURTHER INFORMATION CONTACT.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Why is EPA Taking this Action?

Section 5 of TSCA requires any person who intends to manufacture (defined by statute to include import) a new chemical (i.e., a chemical not on the TSCA Inventory to notify EPA and comply with the statutory provisions pertaining to the manufacture of new chemicals. Under sections 5(d)(2) and 5(d)(3) of TSCA, EPA is required to publish a notice of receipt of a PMN or an application for a TME and to publish periodic status reports on the chemicals under review and the receipt of notices of commencement to manufacture those chemicals. This status report, which covers the period from January 1, 2008 through January 31, 2008, consists of the PMNs and TMEs, both pending or expired, and the notices of commencement to manufacture a new chemical that the Agency has received under TSCA section 5 during this time period.

III. Receipt and Status Report for PMNs

This status report identifies the PMNs and TMEs, both pending or expired, and the notices of commencement to manufacture a new chemical that the Agency has received under TSCA section 5 during this time period. If you are interested in information that is not included in the following tables, you may contact EPA as described in Unit II. to access additional non-CBI information that may be available.

In Table I of this unit, EPA provides the following information (to the extent that such information is not claimed as CBI) on the PMNs received by EPA during this period: the EPA case number assigned to the PMN; the date the PMN was received by EPA; the projected end date for EPA's review of the PMN; the submitting manufacturer; the potential uses identified by the manufacturer in the PMN; and the chemical identity.

I. 51 Premanufacture Notices Received From: 01/01/08 to 01/31/08
Case No. | Received Date | Projected Notice End Date | Manufacturer/Importer | Use | Chemical
P-08-0158 | 01/02/08 | 03/31/08 | CBI | (G) Corrosion inhibitor | (G) Fatty acid amine derivative
P-08-0159 | 01/02/08 | 03/31/08 | CBI | (G) Corrosion inhibitor | (G) Fatty acid amine derivative
P-08-0160 | 01/03/08 | 04/01/08 | 3M | (G) Intermediate | (G) Aryloxyalcohol
P-08-0161 | 01/03/08 | 04/01/08 | 3M | (G) Monomer | (G) Aryloxyacrylate
P-08-0162 | 01/02/08 | 03/31/08 | CBI | (S) Intermediate | (G) Fatty acid derivative
P-08-0164 | 01/08/08 | 04/06/08 | Esstech, Inc. | (S) Cross-linking agent; metal adhesive | (S) 1,2,4,5-benzenetetra carboxylic acid; 1,4-bis(2-((2-methyl-1-oxo-2-propenyl)oxy)ethyl)ester
P-08-0165 | 01/09/08 | 04/07/08 | CBI | (S) Deodorizer for consumer products | (G) Extract of tea
P-08-0166 | 01/11/08 | 04/09/08 | PPG Industries, Inc. | (G) Component of coating with open use | (G) Trimethoxysilane
P-08-0167 | 01/11/08 | 04/09/08 | Mitsubishi Chemical Performance Polymers, Inc. | (S) Molding material for agriculture; molding material for food package; material for fiber, monofilament; molding material for construction; material for sheet, film | (G) Alkanedioic acid, polymer with 1,4-butanediol
P-08-0168 | 01/11/08 | 04/09/08 | CBI | (G) Specialty additive | (G) Potassium humate, polymer with acrylic monomers
P-08-0169 | 01/14/08 | 04/12/08 | CBI | (G) Crosslinking agent for coatings | (G) Aromatic polyisocyanate, glycol ethers-blocked
P-08-0170 | 01/14/08 | 04/12/08 | CBI | (G) Crosslinking agent for coatings | (G) Aromatic polyisocyanate, glycol ether and aliphatic alcohol-blocked
P-08-0171 | 01/14/08 | 04/12/08 | CBI | (G) Crosslinking agent for coatings | (G) Aromatic polyisocyanate, aliphatic diol, glycol ether-blocked
P-08-0172 | 01/14/08 | 04/12/08 | CBI | (G) Crosslinking agent for coatings | (G) Aromatic polyisocyanate, aliphatic diol, glycol ether-blocked
P-08-0173 | 01/14/08 | 04/12/08 | CBI | (G) Crosslinking agent for coatings | (G) Aromatic polyisocyanate, glycol ethers-blocked
P-08-0174 | 01/14/08 | 04/12/08 | CBI | (G) Crosslinking agent for coatings | (G) Aromatic polyisocyanate, aliphatic polyol, glycol ethers-blocked
P-08-0175 | 01/14/08 | 04/12/08 | CBI | (G) Open non-dispersive (elastomer) | (G) Polyurethane elastomer
P-08-0176 | 01/15/08 | 04/13/08 | Ineos Olefine and Polymers USA LLC | (S) Catalyst for polyolefins polymerization | (S) Magnesium, bu alc. chloro titanium complexes
P-08-0177 | 01/14/08 | 04/12/08 | CBI | (G) (1) Property modifier in electronic applications, contained use; (2) Property modifier in polymer composites, contained use | (S) Multi-walled carbon nanotubes
P-08-0178 | 01/14/08 | 04/12/08 | CBI | (G) Chemical intermediate that is chemically transformed in use | (G) Substituted benzoyl chloride
P-08-0179 | 01/14/08 | 04/12/08 | CBI | (G) Nucleator for polymers | (G) 1,2,3-propanetricarboxamide derivative
P-08-0180 | 01/14/08 | 04/12/08 | CBI | (G) Precursor to another chemical substance, destructive use | (G) Salt of condensation product of cyclic diketone
P-08-0181 | 01/14/08 | 04/12/08 | CBI | (G) Precursor to another chemical substance, destructive use | (G) Substituted benzoic acid
P-08-0182 | 01/15/08 | 04/13/08 | CBI | (G) Reactant | (G) Acid modified alumina
P-08-0183 | 01/16/08 | 04/14/08 | CIBA Corporation | (S) High mw pigment dispersant in paints and coatings | (G) Polyethylene gylcol/polyacrylate/vinylpyridine block polymer
P-08-0184 | 01/16/08 | 04/14/08 | CIBA Corporation | (S) High MW pigment dispersant in paints and coatings | (G) Polyacrylate/vinylpyridine block copolymer
P-08-0185 | 01/08/08 | 04/06/08 | Advanced Polymer, Inc. | (S) Adhesion promoter for polypropylene | (S) 1-butene, polymer with ethene and 1-propene, maleated
P-08-0186 | 01/18/08 | 04/16/08 | Colonial Chemical, Inc. | (S) Surfactant for carpet cleaning; surfactant for antifog coating; wetting agent for fiber treatment | (S) D-glucopyranose, oligomeric, decyl octyl glycosides, 3-(dodecyldimethylammonio)-2-hydroxypropyl ethers, chlorides
P-08-0187 | 01/18/08 | 04/16/08 | Colonial Chemical, Inc. | (S) Surfactant for carpet cleaning; surfactant for antifog coating; wetting agent for fiber treatment | (S) D-glucopyranose, oligomeric, C10-16-alkyl glycosides, 3-(dodecyldimethylammonio)-2-hydroxypropyl ethers, chlorides
P-08-0188 | 01/18/08 | 04/16/08 | Colonial Chemical, Inc. | (S) Surfactant for carpet cleaning; surfactant for antifog coating; wetting agent for fiber treatment | (S) D-glucopyranose, oligomeric, decyl octyl glycosides, 3-(dimethyloctadecylammonio)-2-hydroxypropyl ethers, chlorides
P-08-0189 | 01/18/08 | 04/16/08 | Colonial Chemical, Inc. | (S) Surfactant for carpet cleaning; surfactant for antifog coating; wetting agent for fiber treatment | (S) D-glucopyranose, oligomeric, C10-16-alkyl glycosides, 3-(dimethyloctadecylammonio)-2-hydroxypropyl ethers, chlorides
P-08-0190 | 01/18/08 | 04/16/08 | Colonial Chemical, Inc. | (S) Surfactant for carpet cleaning; surfactant for antifog coating; wetting agent for fiber treatment | (S) D-glucopyranose, oligomeric, C10-16-alkyl decyl octyl glycosides, 2-hydroxy-3-(trimethylammonio)propyl ethers, chlorides
P-08-0191 | 01/18/08 | 04/16/08 | Cytec Industries Inc. | (G) Antiscalant | (G) Modified polyamine
P-08-0192 | 01/18/08 | 04/16/08 | Cytec Industries Inc. | (G) Antiscalant | (G) Modified polyamine
P-08-0193 | 01/18/08 | 04/16/08 | Cytec Industries Inc. | (G) Antiscalant | (G) Modified polyamine
P-08-0194 | 01/22/08 | 04/20/08 | Cytec Industries Inc. | (G) Ink additive | (G) Fatty acids, dimers, polymers with alkenoic acid, polyoxyalkylene and alkyl substituted triol
P-08-0195 | 01/22/08 | 04/20/08 | Cytec Industries Inc. | (G) Coatings resin | (G) Acrylated aliphatic polyurethane
P-08-0196 | 01/22/08 | 04/20/08 | CBI | (S) Polyester raw material used in the manufacture of industrial coatings for automotive or metal finishing | (G) Polyester
P-08-0197 | 01/22/08 | 04/20/08 | CBI | (S) Polyester raw material used in the manufacture of industrial coatings for automotive or metal finishing | (G) Epoxy modified polyester
P-08-0198 | 01/23/08 | 04/21/08 | Incorez Corporation | (S) Curing agent for epoxy based coatings | (G) Aromatic polyepoxide-polyamine copolymer
P-08-0199 | 01/23/08 | 04/21/08 | CBI | (S) Additive/filler for polymer composites; support media for industrial catalysts | (G) Carbon
P-08-0200 | 01/24/08 | 04/22/08 | CBI | (G) (Product 1) Additive for open, non-dispersive use; (Product 2) Coating for open, non-dispersive use | (G) Partially fluorinated amphiphilic condensation polymer
P-08-0201 | 01/24/08 | 04/22/08 | Supresta U.S. LLC | (S) Flame retardant for engineering resins | (G) Aryl phosphoric acid ester
P-08-0202 | 01/25/08 | 04/23/08 | 3M | (G) Prepolymer | (G) Polyetheramine diisocyanate prepolymer
P-08-0203 | 01/25/08 | 04/23/08 | CBI | (G) Moisture curing polyurethane adhesive | (G) Isocyanate terminated urethane polymer
P-08-0204 | 01/23/08 | 04/21/08 | CBI | (G) Dispersant for inorganic materials | (G) Methacrylate copolymer
P-08-0205 | 01/30/08 | 04/28/08 | CBI | (G) Auxiliary / finishing agent for leather products | (G) Acrylic acid polymer with alkyl acrylate, alkenyl benzene and acryl amide, ammonium salt
P-08-0206 | 01/30/08 | 04/28/08 | CBI | (G) Interior and exterior coatings | (G) Styrene/acrylate copolymer (carboxylated)
P-08-0207 | 01/30/08 | 04/28/08 | CBI | (G) Raw material for oil field applications | (G) Substituted styrene copolymer
P-8-0208 | 01/30/08 | 04/28/08 | CBI | (G) Component of paints | (G) Acrylic styrene polymer
P-08-0209 | 01/31/08 | 04/29/08 | CIBA Corporation | (S) Antioxidant for polymers | (G) Poly(oxy-1,2-ethanediyl), .alpha.-bis alkyl substituted hydroxyphenyl ester-.omega.-bis alkyl substituted hydroxyphenyl ester

In Table II of this unit, EPA provides the following information (to the extent that such information is not claimed as CBI) on the TMEs received:

II. 5 Test Marketing Exemption Notices Received From: 01/01/08 to 01/31/08
Case No. | Received Date | Projected Notice End Date | Manufacturer/Importer | Use | Chemical
T-08-0002 | 01/18/08 | 03/02/08 | Cytec Industries Inc. | (G) Antiscalant | (G) Modified polyamine
T-08-0003 | 01/18/08 | 03/02/08 | Cytec Industries Inc. | (G) Antiscalant | (G) Modified polyamine
T-08-0004 | 01/18/08 | 03/02/08 | Cytec Industries Inc. | (G) Antiscalant | (G) Modified polyamine
T-08-0005 | 01/22/08 | 03/06/08 | Cytec Industries Inc. | (G) Ink additive | (G) Fatty acids, dimers, polymers with alkenoic acid, polyoxyalkylene and alkyl substituted triol
T-08-0006 | 01/22/08 | 03/06/08 | Cytec Industries Inc. | (G) Coatings resin | (G) Acrylated aliphatic polyurethane

In Table III of this unit, EPA provides the following information (to the extent that such information is not claimed as CBI) on the Notices of Commencement to manufacture received:

III. 31 Notices of Commencement From: 01/01/08 to 01/31/08
Case No. | Received Date | Commencement Notice End Date | Chemical
P-00-1188 | 01/30/08 | 12/27/07 | (G) Poly(oxyalkylene)bis(2-maleimidoacetate)
P-04-0009 | 01/08/08 | 12/06/07 | (G) Alkylbenzene sulfonic acid
P-05-0186 | 01/14/08 | 12/31/07 | (G) There are 5 chemical substances in this PMN of which 3 are Class I substances and the other 2 are Class II substances. The generic name for each of the 5 chemical susbstances are given below. Class I substances: 1. Reaction product of polyether amine and methyl isobutyl ketone; 2. Reaction product of aminopropyl morpholine and methyl isobutyl ketone; 3. Rreaction product of fatty acids, ethylene amine and methyl isobutyl ketone. Class II substances: 1. Reaction product of formaldehyde, 1,3-benzenedimethanamine, phenol, and methyl isobutyl ketone; 2. Reaction product of fatty acids, butoxymethyl oxirane, formaldehyde-phenol polymer glycidyl ether, aminopropyl morpholine, polyether amine, ethylene amine and methyl isobutyl ketone.
P-05-0193 | 01/30/08 | 01/04/08 | (G) Polyester acrylate oligomer
P-06-0646 | 01/15/08 | 12/15/07 | (G) Fatty acids, alkyl- unsatd., dimers, reaction products with bisphenol a-bisphenol a diglycidyl ether polymer and polyethylenepolyamines
P-07-0060 | 01/28/08 | 01/24/08 | (G) Aliphatic acrylate
P-07-0095 | 01/08/08 | 12/27/07 | (G) Substituted pyridone
P-07-0110 | 01/02/08 | 11/26/07 | (G) Calixarene
P-07-0112 | 01/07/08 | 12/18/07 | (G) Substituted catechol
P-07-0113 | 01/07/08 | 12/18/07 | (G) Chloroalkyl substituted catechol
P-07-0116 | 01/07/08 | 12/17/07 | (G) Alkyl glycidyl ether
P-07-0285 | 01/09/08 | 01/03/08 | (G) Polyurethane derivative
P-07-0291 | 01/14/08 | 12/27/07 | (G) Cobalt zinc complex derivative
P-07-0338 | 01/09/08 | 01/02/08 | (G) Aliphatic polyurethane resin
P-07-0373 | 01/14/08 | 12/24/07 | (G) Counterion of sulfonated CI pigment yellow 138
P-07-0386 | 01/30/08 | 01/21/08 | (G) Heteropolycycle alkyl ether sulfate salt
P-07-0394 | 01/25/08 | 01/12/08 | (G) Alkoxy siloxane
P-07-0423 | 01/09/08 | 12/20/07 | (G) Acrylic polymer with styrene and polyethylene glycol methyl ether methacrylate
P-07-0453 | 01/28/08 | 01/11/08 | (G) Halide salt of an alkylamine
P-07-0481 | 01/08/08 | 12/04/07 | (G) Phosphonium, teraaryl-, tetrakis(aryl)borate(1-)
P-07-0508 | 01/09/08 | 12/17/07 | (G) Ethene-vinyl acetate-acrylate-aldehyde modified polymer
P-07-0515 | 01/08/08 | 12/20/07 | (G) Acrylic latex
P-07-0530 | 01/15/08 | 12/20/07 | (G) Diol initiated polymer with fatty acids methyl esters hydroformylation products, hydrogenated
P-07-0571 | 01/30/08 | 12/25/07 | (G) [[[[(methoxyphenyl)amino]carbonyl]-oxopropyl]diazenyl]-benzoic acid
P-07-0573 | 01/23/08 | 01/16/08 | (S) D-glucopyranose, oligomeric, decyl octyl glycosides, 2-hydroxy-3-sulfopropyl ethers, sodium salts
P-07-0574 | 01/23/08 | 01/16/08 | (S) D-glucopyranose, oligomeric, C10-16-alkyl glycosides, 2-hydroxy-3-sulfopropyl ethers, sodium salts
P-07-0596 | 01/14/08 | 12/18/07 | (S) A complex combination of alkanes produced from tallow by a hydrocracking process. It consists of alkanes having carbon numbers predominantly in the range of C9 through C20 and boiling in the range of approximately 163 degrees celcius to 357 degrees celcius (325 degrees fahrenheit to 675 degrees fahrenheit) Distillates, hydrocracked tallow, 9-20.
P-07-0609 | 01/18/08 | 01/03/08 | (G) Sulfurized fatty acid derivative
P-07-0640 | 01/28/08 | 01/17/08 | (G) Isocyanate functional polyester polyether urethane polymer
P-07-0655 | 01/23/08 | 12/13/07 | (G) Waterborne polyurethane
P-07-0695 | 01/11/08 | 12/23/07 | (G) Sorbitan, alkanoate

List of Subjects

Environmental protection, Chemicals, Premanufacturer notices.

Dated: February 25, 2008.
Chandler Sirmons,
Acting Director, Information Management Division, Office of Pollution Prevention and Toxics.

[FR Doc. E8-4103 Filed 3-3-08; 8:45 am]

BILLING CODE 6560-50-S